DEPARTMENT OF COMMERCE

National Oceanic and Atmospheric Administration

[I.D. 082106C]

Fisheries of the Exclusive Economic Zone Off Alaska; Western Alaska Community Development Quota Program

AGENCY: National Marine Fisheries Service (NMFS), National Oceanic and Atmospheric Administration (NOAA), Commerce.

ACTION: Notice.

SUMMARY: NMFS issues this notice to inform the public about the Community Development Quota (CDQ) percentage allocations among the six CDQ managing entities (CDQ groups) that are in effect as a result of recent amendments to the Magnuson-Stevens Fishery Conservation and Management Act (Magnuson-Stevens Act). On July 11, 2006, the Coast Guard and Maritime Transportation Act of 2006 amended the Magnuson-Stevens Act to establish percentage allocations for groundfish, crab, and halibut allocated among the CDQ groups at those percentage allocations in effect on March 1, 2006. In addition, this notice provides information about the percentage allocations for prohibited species quota (PSQ) allocated among the CDQ groups that were not affected by the Magnuson-Stevens Act amendments, but continue in effect under an administrative determination issued by NMFS on August 8, 2005.

ADDRESSES: Copies of section 416 of the Coast Guard and Maritime Transportation Act of 2006 and the August 8, 2005, initial administrative determination (IAD) extending the 2003-2005 groundfish, halibut, crab, and prohibited species CDQ percentage allocations may be obtained by mail from NMFS Alaska Region, Attn: in-person at Ellen Walsh, Records Officer, P.O. Box 21668, Juneau, AK 99802; NMFS Alaska Region, 709 W. 9th Street, Room 420A, Juneau, AK; or at the NMFS Alaska Region web site at http://www.fakr.noaa.gov/cdq.

FOR FURTHER INFORMATION CONTACT: Obren Davis, 907-586-7241 or obren.davis@noaa.gov.

SUPPLEMENTARY INFORMATION:

Background

The Coast Guard and Maritime Transportation Act of 2006 (Public Law 109-241) was signed by the President on July 11, 2006. Section 416 of this legislation amended section 305(i)(1) of the Magnuson-Stevens Act. The Magnuson-Stevens Act is the primary statute governing management of the nation's marine fisheries within the U.S. exclusive economic zone. Section 305(i)(1) establishes the Western Alaska CDQ Program, which provides western Alaska communities with allocations of Bering Sea and Aleutian Islands (BSAI) groundfish, halibut, crab, and prohibited species. These allocations provide such communities with the opportunity to participate and invest in BSAI fisheries in support of economic development activities. Revised section 305(i)(1) of the Magnuson-Stevens Act contains a broad range of changes to various aspects of the CDQ Program. These include elements associated with CDQ Program administration and oversight, percentage allocations of annual CDQ Program catch limits, permanent eligibility status for current CDQ communities, and CDQ fisheries management measures. Subparagraph (C) of section 305(i)(1), “Allocations to Entities” directs that:

Each entity eligible to participate in the program shall be authorized under the program to harvest annually the same percentage of each species allocated to the program under subparagraph (B) that it was authorized by the Secretary to harvest of such species annually as of March 1, 2006, except to the extent that its allocation is adjusted under subparagraph (H).

Subparagraph (H) addresses the decennial review and adjustment of entity allocations beginning in 2012. This notice does not address the process that will be used to make such adjustments; that process will be addressed in future rulemaking. Once such a decennial review is completed, the percentage allocations contained in this notice may be revised through the adjustment process described in subparagraph (H).

Purpose

Annual CDQ Program allocations for approximately 36 quota categories of BSAI groundfish, halibut, crab, and prohibited species are distributed among CDQ groups based on CDQ and PSQ percentage allocations. Historically, percentage allocations have been established through periodic CDQ application processes. Section 305(i)(1)(c) establishes the CDQ percentage allocations for BSAI groundfish, halibut, and crab at the same levels that were in effect on March 1, 2006. The CDQ and PSQ percentage allocations for all quota categories (except two) that were in effect on that date were originally approved by NMFS on January 17, 2003, as part of the 2003-2005 CDQ allocation process. The expiration date for those CDQ and PSQ percentage allocations was December 31, 2005.

On August 8, 2005, NMFS issued an IAD that removed the December 31, 2005, expiration date from these CDQ and PSQ percentage allocations. This administrative determination, which was effective on September 7, 2005, established the CDQ percentage allocations that were in effect on March 1, 2006, for all BSAI groundfish, halibut, and prohibited species, as well as for all crab species except Eastern Aleutian Islands (EAI) golden king crab and Adak red king crab. This IAD is available from NMFS (see ADDRESSES).

EAI golden king crab and Adak red king crab were allocated to the CDQ Program on April 1, 2005, as part of the crab rationalization program (70 FR 10174; March 2, 2005). These two crab species had not previously been allocated to the CDQ Program, so they were not included in the CDQ percentage allocations that were originally approved by NMFS on January 17, 2003. On October 12, 2005, NMFS issued a final agency decision that established CDQ percentage allocations for these two crab species through June 30, 2006. These were the CDQ percentage allocations in effect for EAI golden king crab and Adak red king crab on March 1, 2006.

The prohibited species allocated to the CDQ Program are not allocations for directed fisheries under sections 305(i)(1)(B) and (C) of the Magnuson-Stevens Act. Therefore, they are not included among the species allocated to the program under section 305(i)(1)(B). Existing PSQ percentage allocations will remain in effect under the administrative determination issued on August 8, 2005, unless revised through some future final agency action.

Allocation Percentages

The tables below identify the CDQ and PSQ percentage allocations in effect for each CDQ group. Table 1 lists the CDQ percentage allocations of BSAI groundfish, crab, and halibut. Table 2 lists the PSQ percentage allocations of BSAI prohibited species.

TABLE 1—CDQ PERCENTAGE ALLOCATIONS OF BSAI GROUNDFISH, CRAB, AND HALIBUT AS OF MARCH 1, 2006
Species | Area¹ | CDQ Group²: APICDA | CDQ Group²: BBEDC | CDQ Group²: CBSFA | CDQ Group²: CVRF | CDQ Group²: NSEDC | CDQ Group²: YDFDA
GROUNDFISH³ | ...... | ...... | ...... | ...... | ...... | ...... | ......
Pollock | BS | 14% | 21% | 5% | 24% | 22% | 14%
| AI | 14% | 21% | 5% | 24% | 22% | 14%
| Bogoslof | 14% | 21% | 5% | 24% | 22% | 14%
Pacific cod | BSAI | 15% | 21% | 9% | 18% | 18% | 19%
Sablefish (from trawl gear allocation) | BS | 21% | 22% | 9% | 13% | 13% | 22%
| AI | 26% | 20% | 8% | 13% | 12% | 21%
Sablefish, fixed gear | BS | 15% | 20% | 16% | 0% | 18% | 31%
| AI | 14% | 19% | 3% | 27% | 23% | 14%
Atka mackerel | EAI/BS | 30% | 15% | 8% | 15% | 14% | 18%
| CAI | 30% | 15% | 8% | 15% | 14% | 18%
| WAI | 30% | 15% | 8% | 15% | 14% | 18%
Yellowfin sole | BSAI | 28% | 24% | 8% | 6% | 7% | 27%
Rock sole | BSAI | 24% | 23% | 8% | 11% | 11% | 23%
Greenland turbot | BS | 16% | 20% | 8% | 17% | 19% | 20%
| AI | 17% | 19% | 7% | 18% | 20% | 19%
Arrowtooth flounder | BSAI | 22% | 22% | 9% | 13% | 12% | 22%
Flathead sole | BSAI | 20% | 21% | 9% | 15% | 15% | 20%
Other flatfish | BSAI | 26% | 24% | 8% | 8% | 8% | 26%
Alaska plaice | BSAI | 14% | 21% | 5% | 24% | 22% | 14%
Pacific ocean perch | BS | 17% | 21% | 6% | 21% | 19% | 16%
| EAI | 30% | 15% | 8% | 15% | 14% | 18%
| CAI | 30% | 15% | 8% | 15% | 14% | 18%
| WAI | 30% | 15% | 8% | 15% | 14% | 18%
Other rockfish | BS | 21% | 19% | 7% | 17% | 17% | 19%
| AI | 21% | 18% | 8% | 17% | 17% | 19%
CRAB | ...... | ...... | ...... | ...... | ...... | ...... | ......
Red king | Adak | 8% | 18% | 21% | 18% | 21% | 14%
Red king | Bristol Bay | 17% | 19% | 10% | 18% | 18% | 18%
C. bairdi (Tanner) crab | BS | 10% | 19% | 19% | 17% | 18% | 17%
C. opilio crab | BS | 8% | 20% | 20% | 17% | 18% | 17%
Golden king | EAI | 8% | 18% | 21% | 18% | 21% | 14%
Red king | Norton Sound | 0% | 0% | 0% | 0% | 50% | 50%
Red and blue king | Pribilof Is. | 0% | 0% | 100% | 0% | 0% | 0%
Blue king | St. Matthew | 50% | 12% | 0% | 12% | 14% | 12%
PACIFIC HALIBUT | ...... | ...... | ...... | ...... | ...... | ...... | ......
| 4B | 100% | 0% | 0% | 0% | 0% | 0%
| 4C | 15% | 0% | 85% | 0% | 0% | 0%
| 4D | 0% | 26% | 0% | 24% | 30% | 20%
| 4E | 0% | 30% | 0% | 70% | 0% | 0%
¹Management area abbreviations: AI = Aleutian Islands, BS = Bering Sea, CAI = Central AI, EAI = Eastern AI, and WAI = Western AI.
²CDQ groups: APICDA = Aleutian Pribilof Island Community Development Corporation, BBEDC = Bristol Bay Economic Development Corporation, CBSFA = Central Bering Sea Fishermen's Association, CVRF = Coastal Villages Region Fund, NSEDC = Norton Sound Economic Development Corporation, and YDFDA = Yukon Delta Fisheries Development Association.
³Certain BSAI groundfish species allocated to the CDQ Program are not allocated among CDQ groups. Program allocations for northern rockfish, shortraker rockfish, and rougheye rockfish were not allocated among the CDQ groups on March 1, 2006, per NMFS's January 17, 2003, administrative determination that approved 2003-2005 CDQ allocation percentages. No percentage allocations were in effect on March 1, 2006, for the “other species” category, which is no longer allocated among CDQ groups per the recommendation of the North Pacific Fishery Management Council (68 FR 69974, December 16, 2003). NMFS now manages these species at the CDQ program level. Finally, squid was removed from the CDQ Program in 2001 (66 FR 13762, March 7, 2001).

TABLE 2—PSQ PERCENTAGE ALLOCATIONS OF BSAI PROHIBITED SPECIES
Species | Area | CDQ Group: APICDA | CDQ Group: BBEDC | CDQ Group: CBSFA | CDQ Group: CVRF | CDQ Group: NSEDC | CDQ Group: YDFDA
C. opilio crab | BS | 25% | 24% | 8% | 10% | 8% | 25%
Pacific halibut | BSAI | 22% | 22% | 9% | 12% | 12% | 23%
Chinook salmon | BSAI | 14% | 21% | 5% | 24% | 22% | 14%
Non-Chinook salmon | BSAI | 14% | 21% | 5% | 24% | 22% | 14%
Red king crab | Zone 1 | 24% | 21% | 8% | 12% | 12% | 23%
C. bairdi (Tanner) crab | Zone 1 | 26% | 24% | 8% | 8% | 8% | 26%
C. bairdi (Tanner) crab | Zone 2 | 24% | 23% | 8% | 11% | 10% | 24%
CDQ groups: APICDA = Aleutian Pribilof Island Community Development Corporation, BBEDC = Bristol Bay Economic Development Corporation, CBSFA = Central Bering Sea Fishermen's Association, CVRF = Coastal Villages Region Fund, NSEDC = Norton Sound Economic Development Corporation, and YDFDA = Yukon Delta Fisheries Development Association.

Authority: 16 U.S.C. 1801 et seq.

Dated: August 25, 2006.
James P. Burgess,
Acting Director, Office of Sustainable Fisheries, National Marine Fisheries Service.

[FR Doc. 06-7326 Filed 8-30-06; 8:45 am]

BILLING CODE 3510-22-S